Title 3—

The President

Proclamation 10077 of September 17, 2020

Constitution Day, Citizenship Day, and Constitution Week, 2020

By the President of the United States of America

A Proclamation

In the summer of 1787, fifty-five delegates from throughout the fledgling United States gathered at the Pennsylvania State House in Philadelphia, intent on erecting a government that would stand the test of time and protect hard-won freedoms secured during the Revolutionary War. Two hundred and thirty-three years later, the document they produced—our Constitution—remains the bedrock of our system of government, one rooted in equality under the law and an unyielding commitment to individual liberty. On this day and during this week, we celebrate our great founding charter as an enduring beacon of freedom and strive toward active citizenship in service of its ideals.

With profound wisdom, the Framers of our Constitution divided political power among three separate and coequal branches, and further between the Federal and State governments, ensuring that a government of the people, by the people, and for the people would remain accountable to its citizens, from whom all legitimate political power is derived. Our Constitution outlines a government that encourages individuals to flourish while still empowering the state to perform necessary functions like protecting law and order and providing essential public goods. This revolutionary concept has made and continues to make our Nation the most free and just society in the world. Because its principles are timeless and rooted in truth, our Constitution has fostered freedom at home, as well as the liberation of countless oppressed peoples around the world. In the more than 2 centuries since its ratification, it has served as an unparalleled engine for human progress.

A key feature of our Constitution is an independent Federal judiciary, which helps safeguard its structure and ensure individual rights. In Federalist 78, Alexander Hamilton describes the proper role of the courts as keeping the legislature “within the limits assigned to their authority,” handing down decisions in accordance with the principle that “a constitution is, in fact, and must be regarded by the judges, as a fundamental law.” In reverence of the wisdom of the Founders, I have made it a top priority to nominate to the Federal bench only those judges who have demonstrated a commitment to enforcing the Constitution as written. To date, I have nominated and the Senate has confirmed more than 240 judges who will faithfully adhere to this foundational judicial principle, including two incredible Supreme Court Justices.

While freedom-loving Americans rightfully venerate and defend our Constitution, we must also remain cognizant that there are those in our society who wish to tear down our institutions and threaten our sacred constitutional freedoms. In recent months, statues of great American heroes like Abraham Lincoln, Ulysses S. Grant, and Theodore Roosevelt have been threatened, torn down, defaced, and destroyed. In cities throughout our country, radical groups have attacked monuments honoring the unrivaled contributions our Founding Fathers made to human freedom. These groups and individuals are attempting to topple constitutional law and order—the very foundation of self-government—by attacking the Constitution and the integrity of our national heroes, falsely decrying our country and its institutions as evil and unjust.

As President, I will never allow such heinous attacks to go unpunished. I will continue to honor the legacy of our history by protecting our freedoms and safeguarding our Constitution and the boundless opportunity it affords to the people of our great Nation. We should always celebrate the brave Americans who fought tyranny to secure the very liberty that these extremists take for granted. To this end, in June of this year, I signed an Executive Order on Protecting American Monuments, Memorials, and Statues, and Combating Recent Criminal Violence, ensuring that anarchy and base criminal acts will no longer tarnish memorials built to honor the heroes who have served our country and defended our Constitution. On this Constitution and Citizenship Day, and during this Constitution Week, we recommit to upholding our constitutional system, to honoring its Framers and those who have sacrificed to defend it—who knew the true price of liberty—and to embracing the duty we as citizens have to preserve the society it has built.

The Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, DONALD J. TRUMP, President of the United States of America, by virtue of the authority vested in me by the Constitution and the laws of the United States, do hereby proclaim September 17, 2020, as Constitution Day and Citizenship Day, and September 17, 2020, through September 23, 2020, as Constitution Week. On this day and during this week, we celebrate the citizens and the Constitution that have made America the greatest Nation this world has ever known. In doing so, we recommit ourselves to the enduring principles of the Constitution and thereby “secure the Blessings of Liberty to ourselves and our posterity.”

IN WITNESS WHEREOF, I have hereunto set my hand this seventeenth day of September, in the year of our Lord two thousand twenty, and of the Independence of the United States of America the two hundred and forty-fifth.

[FR Doc. 2020-21312

Filed 9-23-20; 11:15 am]

Billing code 3295-F0-P